OVERSEAS PRIVATE INVESTMENT CORPORATION

Sunshine Act Meeting Cancellation Notice; June 16, 2011 Public Hearing

OPIC's Sunshine Act notice of its Public Hearing in Conjunction with each Board meeting was published in the Federal Register (Volume 76, Number 104, Pages 31382 and 31383) on May 31, 2011. No requests were received to provide testimony or submit written statements for the record; therefore, OPIC's public hearing scheduled for 2 p.m., June 16, 2011 in conjunction with OPIC's June 23, 2011 Board of Directors meeting has been cancelled.

CONTACT PERSON FOR INFORMATION: Information on the hearing cancellation may be obtained from Connie M. Downs at (202) 336-8438, or via e-mail at Connie.Downs@opic.gov.

Dated: June 10, 2011.
Connie M. Downs,
OPIC Corporate Secretary.

[FR Doc. 2011-14808 Filed 6-10-11; 4:15 pm]

BILLING CODE 3210-01-P